DEPARTMENT OF HEALTH AND HUMAN SERVICES

Administration for Children and Families

Submission for OMB Review; OCSE-75 Tribal Child Support Enforcement Program Annual Data Report (OMB #0970-0320)

AGENCY: Office of Child Support Enforcement, Administration for Children and Families, HHS.

ACTION: Request for public comment.

SUMMARY: The Office of Child Support Enforcement (OCSE), Administration for Children and Families (ACF), U.S. Department of Health and Human Services (HHS), is requesting a three-year extension of the form OCSE-75—Tribal Child Support Enforcement Annual Data Report (OMB # 0970-0320, expiration 03/31/2020). There are no changes requested to the form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV. Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION: Description: The data collected by form OCSE-75 are used to prepare the OCSE preliminary and annual data reports. In addition, Tribes administering CSE programs under Title IV-D of the Social Security Act are required to report program status and accomplishments in an annual narrative report and submit the OCSE-75 report annually.

Respondents: Tribal Child Support Enforcement Organizations or the Department/Agency/Bureau responsible for Child Support Enforcement in each tribe.

Annual Burden Estimates
Instrument | Annual number of respondents | Annual number of responses per respondent | Average burden hours per response | Annual burden hours
OCSE-75 | 60 | 1 | 60 | 3,600

Estimated Total Annual Burden Hours: 3,600.

Authority: Title IV-D of the Social Security ACT as required by CFR 45 Section 309.170(b).

Mary B. Jones,
ACF/OPRE Certifying Officer.

[FR Doc. 2019-27423 Filed 12-18-19; 8:45 am]

BILLING CODE 4184-41-P